DEPARTMENT OF COMMERCE

International Trade Administration

[A-533-813, A-570-851]

Certain Preserved Mushrooms from India and the People's Republic of China: Notice of Extension of Time Limit for Preliminary Results in Antidumping Duty Administrative Reviews and New Shipper Review

AGENCY: Import Administration, International Trade Administration, Department of Commerce.

EFFECTIVE DATE: October 3, 2003.

FOR FURTHER INFORMATION CONTACT: Kate Johnson at (202) 482-4929, or David J. Goldberger at (202) 482-4136 (India), or Brian Smith at (202) 482-1766 (PRC), Office 2, AD/CVD Enforcement Group I, Import Administration, International Trade Administration, U.S. Department of Commerce, 14th Street and Constitution Avenue, N.W., Washington, D.C., 20230.

SUMMARY: The Department of Commerce is extending the time limit for the preliminary results of the fourth administrative review of the antidumping duty order on certain preserved mushrooms from India and the fourth administrative review and sixth new shipper review of the antidumping duty order on certain preserved mushrooms from the People's Republic of China, which cover the period February 1, 2002, through January 31, 2003.

SUPPLEMENTARY INFORMATION: Pursuant to section 751(a)(3)(A) of the Tariff Act of 1930, as amended (the Act), the Department shall make a preliminary determination in an administrative review of an antidumping duty order within 245 days after the last day of the anniversary month of the date of publication of the order. The Act further provides, however, that the Department may extend that 245-day period to 365 days if it determines it is not practicable to complete the review within the foregoing time period.

Pursuant to 751(a)(2)(B)(iv) of the Act, the Department shall make a preliminary determination in a new shipper review within 180 days after the date on which the review is initiated. However, if the case is extraordinarily complicated, it may extend the 180 day period for the preliminary results to 300 days.

The Department finds that it is not practicable to complete the preliminary results in the administrative review of certain preserved mushrooms from India as well as the administrative review of certain preserved mushrooms from the People's Republic of China within this time limit because we are unable to conduct verifications until after the date of the currently scheduled preliminary results. In addition, we determine that it would be extraordinarily complicated to complete the preliminary results in the new shipper review of certain preserved mushrooms from the People's Republic of China under the current schedule as we need additional time to conduct verifications and to analyze issues raised in that review.

Therefore, in accordance with sections 751(a)(3)(A) and 751(a)(2)(B)(iv) of the Act, the Department is extending the time for completion of the preliminary results of these reviews until February 28, 2004.

Dated: September 26, 2003.
Jeffrey May,
Deputy Assistant Secretary for Import Administration.

[FR Doc. 03-25158 Filed 10-2-03; 8:45 am]

BILLING CODE 3510-DS-S